DEPARTMENT OF THE INTERIOR

Bureau of Land Management

[LLAK910000 L13100000.DB0000 LXSINSSI0000]

Notice of Public Meeting, North Slope Science Initiative—Science Technical Advisory Panel

AGENCY: Bureau of Land Management, Interior.

ACTION: Notice of public meeting.

SUMMARY: In accordance with the Federal Land Policy and Management Act of 1976 (FLPMA) as amended and the Federal Advisory Committee Act of 1972 (FACA), the North Slope Science Initiative (NSSI)—Science Technical Advisory Panel (STAP), Bureau of Land Management, U.S. Department of the Interior will meet as indicated below.

DATES: The meeting will be January 26-28, 2015, at the Inupiat Heritage Center, 5421 North Star Blvd., Barrow, Alaska. The meetings will begin at 1:00 p.m. on Monday, January 26, and at 9:00 a.m. on Tuesday, January 27 and Wednesday, January 28. The NSSI STAP will receive public comment between 3:00 p.m. and 4:00 p.m. on Tuesday, January 27.

FOR FURTHER INFORMATION CONTACT: Denny Lassuy, Deputy Director, North Slope Science Initiative and Acting Designated Federal Officer, North Slope Science Initiative, AK-910, c/o Bureau of Land Management, 222 W. Seventh Avenue, #13, Anchorage, AK 99513, 907-271-3431, or email dlassuy@blm.gov. Persons who use a telecommunications device for the deaf (TDD) may call the Federal Information Relay Service (FIRS) at 1 (800) 877-8339 to contact the above individual during normal business hours. The FIRS is available 24 hours a day, seven days a week, to leave a message or question with the above individual. You will receive a reply during normal business hours.

SUPPLEMENTARY INFORMATION: The NSSI STAP provides advice and recommendations to the NSSI Oversight Group regarding priority information needs for management decisions across the North Slope of Alaska. These priority information needs may include recommendations on inventory, monitoring, and research activities that contribute to informed resource management decisions.

The NSSI STAP meeting agenda will include: Continue dialogue for prioritizing inventory, monitoring and research using the North Slope Scenarios Project results for the North Slope and adjacent marine environments; Continue dialogue on a long-term monitoring strategy for the North Slope; Review the status of the emerging issue summaries released October 2010 and revised June 2014; and a joint meeting on Wednesday, January 28, with the NSSI Oversight Group.

The public may present written comments to the NSSI STAP through the Deputy Director, NSSI. Each formal meeting will have time allotted for public comments. Depending on the number of persons wishing to comment and time available, the time for individual oral comments may be limited. Individuals who plan to attend and need special assistance, such as sign language interpretation, transportation, or other reasonable accommodations, should contact the Deputy Director, NSSI. Before including your address, phone number, email address, or other personal identifying information in your comment, you should be aware that your entire comment—including your personal identifying information—may be made publicly available at any time. While you can ask us in your comment to withhold your personal identifying information from public review, we cannot guarantee that we will be able to do so.

Dated: December 19, 2014.
Bud C. Cribley,
State Director.

[FR Doc. 2014-30298 Filed 12-24-14; 8:45 am]

BILLING CODE 4310-JA-P